DEPARTMENT OF THE INTERIOR

Bureau of Land Management

[ES-032-02-1430-EU]

Realty Action; Recreation and Public Purpose Act Classification; Benzie County, MI

AGENCY: Bureau of Land Management, Milwaukee Field Office.

ACTION: Notice of Realty Action; Bureau Motion; Recreation and Public Purposes Act (R&PP) Classification; Michigan.

SUMMARY: The following public lands near the community of Frankfort, Benzie County, Michigan have been examined and found suitable for classification and opening under the provisions of the Recreation and Public Purposes Act of 1926, as amended (43 U.S.C. 869 et seq.). In accordance with section 7 of the Act of June 28, 1934, as amended, 43 U.S.C. 315f and EO 6964, the described lands are hereby classified as suitable for disposal under the authority of the Recreation and Public Purposes Act of 1926, as amended; 43 U.S.C. 869 et seq.

Michigan Meridian

T. 26 N., R. 16 W.,

Lot 10 and Lot 12, section 4

The above lands aggregate 4.05 acres

This action is a motion by the Bureau of Land Management to make the lands identified above available for disposal through the Recreation and Public Purposes Act of 1926 (43 U.S.C. 869 et seq.) to protect the historic lighthouse, associated structures and the surrounding lands. The subject lands were identified in the Michigan Resource Management Plan Amendment, approved June 30, 1997, as not needed for Federal purposes and having potential for disposal to protect the historic structures and surrounding lands. Lease or conveyance of the lands for recreational and public purpose use would be in the public interest. Detailed information concerning this action is available for review at the office of the Bureau of Land Management, Milwaukee Field Office, Wisconsin.

FOR FURTHER INFORMATION CONTACT: Paul J. Salvatore, Realty Specialist, Bureau of Land Management, Milwaukee Field Office, 310 West Wisconsin Avenue, Suite 450, Milwaukee, Wisconsin 53203, (414) 297-4413.

SUPPLEMENTARY INFORMATION: Pursuant to the Executive Order dated July 24, 1875, a parcel of public located in Benzie County, Michigan was reserved for lighthouse purposes. The parcel contains the Point Betsie Lighthouse and is located on the eastern shore of Lake Michigan near the city of Frankfort and has subsequently been resurveyed and divided into three (3) separate lots: Lot 10—1.70 acres, Lot 11—3.52 acres and Lot 12—2.35 acres.

The Department of Transportation, United States Coast Guard, submitted a Notice of Intent (NOI) to relinquish custody, accountability and control of Lot 10 on January 6, 1984. Lot 10 was determined suitable for return to public domain on November 21, 1995. A second Notice of Intent to relinquish custody, accountability and control was submitted for Lot 12 on August 12, 1998. Lot 12 was determined suitable for return to public domain on December 6, 2000. Lot 11 has not been relinquished.

Lease or conveyance of the above described public lands will be subject to the following terms, conditions and reservations:

1. Provisions of the Recreation and Public Purposes Act and to all applicable regulations of the Secretary of the Interior.

2. All valid existing rights documented on the official public land records at the time of lease/patent issuance.

3. All minerals shall be reserved to the United States, together with the right to prospect for, mine and remove the minerals.

4. Any terms and conditions identified through the site specific environmental analysis.

5. Any other reservations that the authorized office deems appropriate to ensure public access and proper management of Federal lands and interest therein.

Upon publication of this notice in the Federal Register, the above described lands will be segregated from all forms of appropriation under the public land laws, except for lease or conveyance under the Recreation and Public Purposes Act of 1926 (43 U.S.C. 869 et seq.) and leasing under the mineral leasing laws.

For a period of 45 days after issuance of this notice, interested parties may submit comments regarding the proposed classification to the Field Manager, Milwaukee Field Office, Bureau of Land Management, 310 West Wisconsin Avenue, Suite 450, Milwaukee, Wisconsin 53203. Any adverse comments will be evaluated by the State Director who may sustain, vacate, or modify this realty action. In the absence of any adverse comments, the classification will become effective 60 days from the date of publication of this notice.

Upon the effective date of classification, the lands will be open to the filing of applications under the Recreation and Public Purposes Act of 1926 (43 U.S.C. 869 et seq.) by any interested, qualified applicant. If, after 9 months following the effective date of the classification, an application has not been filed, the segregative effect of the classification shall automatically expire and the lands classified shall return to their former status without further action by the authorized officer.

Dated: October 16, 2001.
Chris Hanson,
Acting Milwaukee Field Manager.

[FR Doc. 01-28113 Filed 11-8-01; 8:45 am]

BILLING CODE 4310-PN-P